DEPARTMENT OF THE TREASURY

Submission for OMB Review; Comment Request

May 17, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 23, 2005 to be assured of consideration.

Alcohol and Tobacco Tax and Trade Bureau (TTB)

OMB Number: 1513-0006.

Form Number: TTB F 5520.3.

Type of Review: Extension.

Title: Application—Volatile Fruit-Flavor Concentrate Plants, TTB REC 5520/2.

Description: Persons who wish to establish premises to manufacture volatile fruit-flavor concentrates are required to file an application so requesting. TTB uses the application information to identify persons responsible for such manufacture, since these products contain ethyl alcohol and have potential for use as alcoholic beverages with consequent loss of revenue. The application constitutes registry of a still, a statutory requirement.

Respondents: Business of other for-profit.

Estimated Number of Recordkeeping: 10.

Estimated Burden Hours Per Recordkeeper: 3 hours.

Frequency of Response: On occasion.

Estimated Total Recordkeeping Burden: 30 hours.

OMB Number: 1513-0022.

Form Number: TTB F 5520.2.

Type of Review: Extension.

Title: TTB REC 5520/1 Annual Report of Concentrate Manufacturers and Usual and Customary Business Records—Volatile Fruit-Flavor Concentrate.

Description: Manufacturers of volatile fruit-flavor concentrate must provide reports as necessary to insure the protection of the revenue. The report accounts for all concentrates manufactured, removed, or treated so as to be unfit for beverage use. The information is required to verify that alcohol is not being diverted thereby jeopardizing tax revenues.

Respondents: Business of other for-profit.

Estimated Number of Respondents: 91.

Estimated Burden Hours Per Respondent: 20 minutes.

Frequency of Response: Annually.

Estimated Total Reporting Burden: 30 hours.

OMB Number: 1513-0031.

Form Number: TTB F 5100.12 and TTB F 5110.67.

Type of Review: Extension.

Title: Specific Transportation Bond—Distilled Spirits or Wines Withdrawn for Transportation to Manufacturing Bonded Warehouse—Class Six and Continuing Transportation Bond—Distilled Spirits and Wines Withdrawn for Transportation to Manufacturing Bonded Warehouse—Class Six.

Description: TTB F 5100.12 and TTB F 5110.67 are specific bonds that protect the tax liability on distilled spirits and wine while in transit from one type of bonded facility to another. They identify the shipment, the parties, the date and the amount of bond coverage.

Respondents: Business of other for-profit.

Estimated Number of Respondents: 1.

Estimated Burden Hours Per Recordkeeper: 1 hour.

Frequency of Response: On occasion.

Estimated Total Reporting Burden: 1 hour.

OMB Number: 1513-0055.

Form Numbers: TTB F 5640.2.

Type of Review: Extension.

Title: Offer in Compromise of Liability Incurred Under Federal Alcohol Administration Act, as amended.

Description: Persons who have committed violations of the FAA Act may submit an offer in compromise. The offer is a request by the party in violation to compromise penalties for the violations in lieu of civil or criminal action. TTB F 5640.2 identifies the violation(s) to be comprised by the person committing them, amount of offer plus justification for acceptance.

Respondents: Business of other for-profit.

Estimated Number of Respondents: 12.

Estimated Burden Hours Per Respondent: 2 hours.

Frequency of Response: On occasion.

Estimated Total Recordkeeping Burden: 24 hours.

OMB Number: 1513-0094.

Form Number: TTB F 5300.26.

Type of Review: Extension.

Title: Federal Firearms and Ammunition Excise Tax Return.

Description: This information is needed to determine how much tax is owed for firearms and ammunition. TTB uses this information to verify that a taxpayer has correctly determined and paid tax liability on the sale or use of firearms and ammunition. Businesses, including small to large, and individuals may be required to use this form.

Respondents: Business of other for-profit.

Estimated Number of Respondents: 965.

Estimated Burden Hours Per Respondent: 7 hours.

Frequency of Response: Quarterly, Other (annual is no tax is due).

Estimated Total Reporting Burden: 27,020 hours.

Clearance Officer: William H. Foster, (202) 927-8210, Alcohol and Tobacco Tax and Trade Bureau, Room 200 East, 1310 G Street, NW., Washington, DC 20005.

OMB Reviewer: Alexander T. Hunt, (202) 395-7316, Office of Management and Budget, Room 10235, New Executive Office Building, Washington, DC 20503.

Lois K. Holland,
Treasury PRA Clearance Officer.

[FR Doc. 05-10314 Filed 5-23-05; 8:45 am]

BILLING CODE 4810-31-P